DEPARTMENT OF DEFENSE

Office of the Secretary

[Docket ID DOD-2010-OS-0034]

Defense Transportation Regulation, Part IV

AGENCY: United States Transportation Command (USTRANSCOM), DOD.

ACTION: Notice.

SUMMARY: Reference Federal Register Notice (FRN), Docket ID: DOD-2010-OS-0034, published 1 April 2010, DOD has updated portions of the Phase III draft Business Rules for the Defense Personal Property Program (DP3) in the Defense Transportation Regulation (DTR) Part IV (DTR 4500.9R). The updates/revisions to the Phase III business rules include the elimination of the Domestic and International Local Move (dLM and iLM) and Intra-Country Move (iCM) Tender of Service. Requirements for Domestic Local Moves (dLM) can be met using the existing DP3 domestic “dHHG” market using intrastate/interstate domestic shipment code “D” and the 400NG solicitation. In addition, Phase III development efforts will incorporate International Local Moves (iLM) into the DP3 international “iHHG” market using a new shipment code of service (COS) “C” and the SDDC International Tender (IT). Implementation timelines will be based on completion of Defense Personal Property System (DPS) Phase III programming to account for the above efforts projected for FY14.

DATES: Comments must be received on or before June 6, 2011.

ADDRESSES: Do not submit comments directly to the point of contact under FOR FURTHER INFORMATION CONTACT or mail your comments to any address other that what is shown below. Doing so will delay the posting of the submission. You may submit comments, identified by docket number and title, by any of the following methods:

• Federal eRulemaking Portal: http://www.regulations.gov. Follow the instructions for submitting comments.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 256-9605.

SUPPLEMENTARY INFORMATION: Request comments be submitted in the identified Excel-format sample posted with the business rules.

In furtherance of DOD's goal to develop and implement an efficient personal property program to facilitate quality movements for our military members and civilian employees, the Phase III Business Rules were developed by the Military Services and SDDC. The following revised Phase III iCM Business Rules are available for review and comment on the USTRANSCOM Web site at: http://www.transcom.mil/dtr/part-iv/phaseiii.cfm:

Attachment V.C.3—TSP Qualifications;

Attachment V.D.3—Rate Filing;

Attachment V.E.3—Customer Satisfaction Survey;

Attachment V.F.3—Best Value Score;

Attachment V.G.3—Electronic Bill Payment;

Attachment V.J.3—Shipment Management.

All associated proposed changes will be incorporated into the 400NG and IT and posted on the SDDC Web site prior to rate filing. In addition, SDDC will conduct an “Open Season” to allow companies that currently service Local Move shipments in CONUS and OCONUS and those that currently service intra-theater moves to qualify and participate in these extended markets.

Any subsequent modification(s) to the business rules beyond the above stated changes will be published in the Federal Register and incorporated into the Defense Transportation Regulation (DTR) Part IV (DTR 4500.9R). These program requirements do not impose a legal requirement, obligation, sanction or penalty on the public sector, and will not have an economic impact of $100 million or more.

Additional Information:

A complete version of the DTR is available via the Internet on the USTRANSCOM homepage at http://www.transcom.mil/j5/pt/dtr_part_iv.cfm.

Dated: March 30, 2011.
Morgan F. Park,
Alternate OSD Federal Register Liaison Officer, Department of Defense.

[FR Doc. 2011-8011 Filed 4-4-11; 8:45 am]

BILLING CODE 5001-06-P